NUCLEAR REGULATORY COMMISSION

Regulatory Guides; Withdrawal

The Nuclear Regulatory Commission is withdrawing Draft Regulatory Guide DG-4006, “Demonstrating Compliance with the Radiological Criteria for License Termination,” from consideration as a regulatory guide. DG-4006 was published for public comment in August 1998.

This draft guide was issued to propose guidance on demonstrating compliance with radiological criteria at the sites of licensees who wish to terminate their licenses and release their sites. Appendix D of NUREG-1727, “NMSS Decommissioning Standard Review Plan,” published in September 2000, incorporates the guidance that was proposed in DG-4006.

Regulatory guides may be withdrawn when they are superseded by the Commission's regulations, when equivalent recommendations have been incorporated in applicable approved codes and standards, or when changes in methods and techniques or in the need for specific guidance have made them obsolete.

Comments and suggestions are encouraged at any time in connection with guides currently being developed or published guides. Written comments may be submitted to the Rules and Directives Branch, Division of Administrative Services, Office of Administration, U.S. Nuclear Regulatory Commission, Washington, DC 20555. (5 U.S.C. 552(a))

Dated at Rockville, Maryland this 3rd day of July 2002.
For the Nuclear Regulatory Commission.
Farouk Eltawila,
Director, Division of Systems Analysis and Regulatory Effectiveness, Office of Nuclear Regulatory Research.

[FR Doc. 02-17646 Filed 7-12-02; 8:45 am]

BILLING CODE 7590-01-P